DEPARTMENT OF THE INTERIOR

Bureau of Land Management

[CA-930; CACA 7670 and CACA 7672]

Public Land Order No. 7723; Partial Revocation of Lighthouse Withdrawals Created by Two Executive Orders and Transfer of Administrative Jurisdiction; California

AGENCY: Bureau of Land Management, Interior.

ACTION: Public land order.

SUMMARY: This order partially revokes the withdrawals created by two Executive Orders insofar as they affect approximately 700 acres of public lands reserved for lighthouse purposes. This order also transfers administrative jurisdiction of the lands to the National Park Service to be managed as part of the Channel Islands National Park. The United States Coast Guard has determined the reservations are no longer needed.

DATES: January 2, 2009.

FOR FURTHER INFORMATION CONTACT: Duane Marti, BLM California State Office (CA-930), 2800 Cottage Way, Suite W-1834, Sacramento, California 95825-1886; 916-978-4675.

SUPPLEMENTARY INFORMATION: The public lands comprise Anacapa Island, which consists of three islets, and Cat Rock; all of which are located in the Pacific Ocean, approximately 14 miles west of the coast of California. The Act of Congress dated March 5, 1980 (16 U.S.C. 410ff and 410ff-1 (2000)), established the Channel Islands National Park and authorized the Secretary of the Interior to transfer administrative jurisdiction of Federal property located within the park boundary to the National Park Service. The lands have been and will continue to be closed to all forms of appropriation under the public land laws, including mining and mineral leasing.

Order

By virtue of the authority vested in the Secretary of the Interior by Section 204 of the Federal Land Policy and Management Act of 1976, 43 U.S.C. 1714 (2000), it is ordered as follows:

1. The withdrawals created by Executive Orders dated September 11, 1854 and January 26, 1867, which withdrew public lands from surface entry and mining and reserved them for lighthouse purposes, are hereby revoked insofar as they affect the following lands:

San Bernardino Meridian

Unsurveyed T. 2 S., Rgs. 24 and 25 W.

All of that part of the Anacapa Island Lighthouse Reservation, a group of three islets known as Anacapa Island, including the following described parcels of land:

Parcel 1 All of the land comprising the east islet of the group lying eastward of West Longitude 119° 23′ 38″ (North American Datum 1927) comprising 106.88 acres, more or less;

Parcel 2 All of the land comprising the middle islet lying between West Longitude 119° 23′ 21″ and 119° 23′ 30″ and south of Latitude 34° 00′ 14″ North comprising 7.68 acres, more or less;

Parcel 3 All of the land comprising the west islet, lying westward of West Longitude 119° 26′ 10″ comprising 46.72 acres, more or less; and

Parcel 4 The entire area of Cat Rock, which lies off the southern extremity of the west islet comprising 0.5 acre more or less; and all the remaining lands originally withdrawn for lighthouse purposes and incorporated into the Channel Islands National Monument by Presidential Proclamation No. 2281, containing 538.22 acres, more or less.

The areas described aggregate approximately 700 acres in Ventura County.

2. Subject to valid existing rights, the administrative jurisdiction of the public lands described above in Paragraph 1 is hereby transferred to the National Park Service, pursuant to Section 202 of the Act of Congress dated March 5, 1980, (16 U.S.C. 410ff-1 (2000)).

3. The public lands described above in paragraph 1 are located within the exterior boundary of the Channel Islands National Park, and shall be administered as part of that park in accordance with applicable Federal laws and regulations.

Dated: December 16, 2008.
C. Stephen Allred,
Assistant Secretary—Land and Minerals Management.

[FR Doc. E8-31242 Filed 12-31-08; 8:45 am]

BILLING CODE 4910-15-P